DEPARTMENT OF ENERGY

Federal Energy Regulatory Commission

Combined Notice of Filings #1

Take notice that the Commission received the following electric rate filings:

Docket Numbers: ER13-738-005; ER11-3097-009; ER10-1186-008; ER10-1329-008.

Applicants: DTE Electric Company, DTE Energy Trading, Inc., DTE Energy Supply, Inc., St. Paul Cogeneration, LLC.

Description: Updated Market Power Analysis for the Central Region of the DTE MBR Entities, et al.

Filed Date: 6/18/18.

Accession Number: 20180618-5134.

Comments Due: 5 p.m. ET 8/17/18.

Docket Numbers: ER14-1619-004.

Applicants: Cottonwood Energy Company LP.

Description: Supplement (Clarification) to May 11, 2018 Cottonwood Energy Company LP tariff filing.

Filed Date: 6/18/18.

Accession Number: 20180618-5142.

Comments Due: 5 p.m. ET 7/9/18.

Docket Numbers: ER17-219-007.

Applicants: PacifiCorp.

Description: Compliance filing: OATT Ancillary Erratum to Compliance Filing in ER17-219 to be effective 7/1/2018.

Filed Date: 6/15/18.

Accession Number: 20180615-5243.

Comments Due: 5 p.m. ET 7/6/18.

Docket Numbers: ER17-2088-001: ER16-2035-001; ER16-1833-003; ER14-474-008.

Applicants: Apple Blossom Wind, LLC, Black Oak Wind, LLC, Sempra Gas & Power Marketing, LLC, Sempra Generation, LLC.

Description: Updated Market Power Analysis for the Central Region of Apple Blossom Wind, LLC, et al.

Filed Date: 6/18/18.

Accession Number: 20180618-5138.

Comments Due: 5 p.m. ET 8/17/18.

Docket Numbers: ER18-1190-001.

Applicants: Entergy Arkansas, Inc.

Description: Tariff Amendment: Amended Distribution Agreement to Reflect Tax Cuts and Jobs Act of 2017 to be effective 6/1/2018.

Filed Date: 6/19/18.

Accession Number: 20180619-5019.

Comments Due: 5 p.m. ET 7/10/18.

Docket Numbers: ER18-1267-002.

Applicants: South Central MCN LLC.

Description: Tariff Amendment: SCMCN ER18-1267 Deficiency Filing Part 1 to be effective 3/31/2018.

Filed Date: 6/18/18.

Accession Number: 20180618-5089.

Comments Due: 5 p.m. ET 6/28/18.

Docket Numbers: ER18-1267-003.

Applicants: South Central MCN LLC.

Description: Tariff Amendment: SCMCN ER18-1267 Deficiency Filing Part 2 to be effective 3/31/2018.

Filed Date: 6/18/18.

Accession Number: 20180618-5090.

Comments Due: 5 p.m. ET 6/28/18.

Docket Numbers: ER18-1424-001.

Applicants: Rio Bravo Fresno, A California Joint Venture.

Description: Tariff Amendment: Amendment to 1 to be effective 4/23/2018.

Filed Date: 6/19/18.

Accession Number: 20180619-5002.

Comments Due: 5 p.m. ET 7/10/18.

Docket Numbers: ER18-1427-001.

Applicants: Rio Bravo Rocklin, A California Joint Venture.

Description: Tariff Amendment: Amendment to 1 to be effective 4/23/2018.

Filed Date: 6/19/18.

Accession Number: 20180619-5000.

Comments Due: 5 p.m. ET 7/10/18.

Docket Numbers: ER18-1534-001.

Applicants: East Hampton Energy Storage Center, LLC.

Description: Tariff Amendment: East Hampton Energy Storage Center, LLC Amendment to App for Market-Based Rates to be effective 7/6/2018.

Filed Date: 6/18/18.

Accession Number: 20180618-5109.

Comments Due: 5 p.m. ET 6/28/18.

Docket Numbers: ER18-1535-001.

Applicants: Montauk Energy Storage Center, LLC.

Description: Tariff Amendment: Montauk Energy Storage Center, LLC Amendment to App for Market-Based Rates to be effective 7/6/2018.

Filed Date: 6/18/18.

Accession Number: 20180618-5111.

Comments Due: 5 p.m. ET 6/28/18.

Docket Numbers: ER18-1577-001.

Applicants: Thunder Spirit Wind, LLC.

Description: Tariff Amendment: Supplement to Market-Based Rate Application to be effective 5/14/2018.

Filed Date: 6/15/18.

Accession Number: 20180615-5244.

Comments Due: 5 p.m. ET 7/6/18.

Docket Numbers: ER18-1781-001.

Applicants: Southwest Power Pool, Inc.

Description: Tariff Amendment: 2041R7 Kansas City Board of Public Utilities PTP Agreement to be effective 9/1/2018.

Filed Date: 6/19/18.

Accession Number: 20180619-5035.

Comments Due: 5 p.m. ET 7/10/18.

Docket Numbers: ER18-1795-000.

Applicants: Southwestern Electric Power Company.

Description: § 205(d) Rate Filing: Hope PSA to be effective 5/31/2018.

Filed Date: 6/18/18.

Accession Number: 20180618-5092.

Comments Due: 5 p.m. ET 7/9/18.

Docket Numbers: ER18-1796-000.

Applicants: PJM Interconnection, L.L.C.

Description: § 205(d) Rate Filing: First Revised ISA SA No. 4856; Queue No. AA2-121/AB2-104/AC1-003 to be effective 5/21/2018.

Filed Date: 6/19/18.

Accession Number: 20180619-5024.

Comments Due: 5 p.m. ET 7/10/18.

Docket Numbers: ER18-1797-000.

Applicants: Ioway Energy, LLC.

Description: Tariff Cancellation: Cancellation of Ioway Energy MBR Tariff to be effective 6/19/2018.

Filed Date: 6/19/18.

Accession Number: 20180619-5048.

Comments Due: 5 p.m. ET 7/10/18.

Docket Numbers: ER18-1798-000.

Applicants: PJM Interconnection, L.L.C.

Description: § 205(d) Rate Filing: Original WMPA SA No. 5098; Queue No. AB1-173/AB1-173A to be effective 5/21/2018.

Filed Date: 6/19/18.

Accession Number: 20180619-5062.

Comments Due: 5 p.m. ET 7/10/18.

Docket Numbers: ER18-1799-000.

Applicants: Kentucky Utilities Company.

Description: § 205(d) Rate Filing: Amended Rate Schedules Nos. 185 and 157 TCJA to be effective 7/1/2018.

Filed Date: 6/19/18.

Accession Number: 20180619-5095.

Comments Due: 5 p.m. ET 7/10/18.

Docket Numbers: ER18-1800-000; ER18-1801-000; ER18-1802-000; ER18-1803-000; ER18-1804-000; ER18-1805-000; ER18-1806-000; ER18-1807-000.

Applicants: Bendwind, LLC, DeGreeff DP, LLC, DeGreeffpa, LLC, Groen Wind, LLC, Hillcrest Wind, LLC, Larswind, LLC, Sierra Wind, LLC, TAIR Windfarm, LLC.

Description: Notice of Cancellation Market Base Rate Tariffs of Bendwind, LLC, et al.

Filed Date: 6/19/18.

Accession Number: 20180619-5099.

Comments Due: 5 p.m. ET 7/10/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, nterventions, protests, service, and qualifying facilities filings can be found at: http://www.ferc.gov/docs-filing/efiling/filing-req.pdf. For other information, call (866) 208-3676 (toll free). For TTY, call (202) 502-8659.

Dated: June 19, 2018.
Nathaniel J. Davis, Sr.,
Deputy Secretary.

[FR Doc. 2018-13596 Filed 6-25-18; 8:45 am]

BILLING CODE 6717-01-P